DEPARTMENT OF HOMELAND SECURITY

Coast Guard

33 CFR Part 117

[Docket No. USCG-2016-1015]

Drawbridge Operation Regulation; New Jersey Intracoastal Waterway (NJICW), Point Pleasant Canal, Point Pleasant, NJ

AGENCY: Coast Guard, DHS.

ACTION: Notice of deviation from drawbridge regulation.

SUMMARY: The Coast Guard has issued a temporary deviation from the operating schedule that governs the S.R. 88/Veterans Memorial Bridge across the NJICW (Point Pleasant Canal), mile 3.0, at Point Pleasant, NJ. The deviation is necessary to facilitate and complete urgent bridge maintenance. This deviation allows the bridge to remain in the closed-to-navigation position.

DATES: The deviation is effective 9 p.m. on Wednesday, December 7, 2016 to 6 a.m. on Thursday, December 8, 2016.

ADDRESSES: The docket for this deviation, [USCG-2016-1015] is available at http://www.regulations.gov. Type the docket number in the “SEARCH” box and click “SEARCH”. Click on Open Docket Folder on the line associated with this deviation.

FOR FURTHER INFORMATION CONTACT: If you have questions on this temporary deviation, call or email Mr. Michael Thorogood, Bridge Administration Branch Fifth District, Coast Guard, telephone 757-398-6557, email Michael.R.Thorogood@uscg.mil.

SUPPLMENTARY INFORMATION: The New Jersey Department of Transportation, who owns the S.R. 88/Veterans Memorial Bridge, has requested a temporary deviation from the current operating schedule is set out in 33 CFR 117.5, to facilitate replacement of a defective coupling and floating shaft of the bridge.

Under this temporary deviation, the bridge will be in the closed-to-navigation position at 9 p.m. December 7, 2016 to 6 a.m. December 8, 2016. The bridge is a vertical lift bridge and has a vertical clearance in the closed-to-navigation position of 31 feet above mean high water.

The Point Pleasant Canal is used by a variety of vessels including, recreational vessels and tug and barge traffic. The Coast Guard has carefully considered the nature and volume of vessel traffic on the waterway in publishing this temporary deviation.

Vessels able to pass through the bridge in the closed-to-navigation position may do so at any time. The bridge will not be able to open for emergencies and there is no immediate alternative route for vessels to pass in the closed position. The Coast Guard will also inform the users of the waterway through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: November 28, 2016.
Hal R. Pitts,
Bridge Program Manager, Fifth Coast Guard District.

[FR Doc. 2016-28852 Filed 11-30-16; 8:45 am]

BILLING CODE 9110-04-P